ELECTION ASSISTANCE COMMISSION

Agency Information Collection Activities: National Mail Voter Registration Form

AGENCY: Election Assistance Commission.

ACTION: Notice, request for comment.

SUMMARY: In compliance with the Paperwork Reduction Act of 1995, the EAC announces an information collection and seeks public comment on the provisions thereof. The EAC intends to submit this proposed information collection (National Mail Voter Registration Form) to the Director of the Office of Management and Budget for approval. Section 9(a) of the National Voter Registration Act of 1993 (“NVRA”) and Section 802 of the Help America Vote Act of 2002 (“HAVA”) requires the responsible agency to maintain a national mail voter registration form for U.S. citizens that want to register to vote, to update registration information due to a change of name, make a change of address or to register with a political party by returning the form to their state election office.

DATES: Comments must be received no later than 5 p.m. Eastern Standard Time on Friday, April 4, 2025.

ADDRESSES: Comments on the proposed information collection should be sent within 30 days of publication of this notice to www.reginfo.gov/public/do/PRAMain. Find this particular information collection request by selecting “Office of Personnel Management” under “Currently Under Review,” then check “Only Show ICR for Public Comment” checkbox.

FOR FURTHER INFORMATION CONTACT: Raymond Williams at 202-924-0794, or email research@eac.gov; U.S. Election Assistance Commission, 633 3rd Street NW, Suite 200, Washington, DC 20001.

SUPPLEMENTARY INFORMATION:

Comments: Public comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

Obtaining a Copy of the National Mail Voter Registration Form: To obtain a free copy of the registration form: (1) Download a copy at https://www.eac.gov/voters/national-mail-voter-registration-form; or (2) write to the EAC (including your address and phone number) at U.S. Election Assistance Commission, 633 3rd Street NW, Suite 200, Washington, DC 20001, Attn: National Mail Voter Registration Form.

Title and OMB Number: National Voter Registration Act (NVRA) Regulations for Voter Registration Application; OMB Number 3265-0015.

Needs and Uses: Persons wishing to register to vote may use the National Mail Voter Registration form (“Federal form” or “form”) to apply for voter registration. After completing the form, an applicant submits her/his form to their respective state election office for processing. States covered by the NVRA process the information from the form to register an applicant to vote. Neither EAC nor any other Federal agency processes or collects any information from the Federal form that a registration applicant submits to a state. Rather, EAC prescribes the Federal form, and states collect and record the information applicants submit. The Federal form is composed of the registration application, instructions for completing the application (General Instructions and Application Instructions), and state-specific instructions that identify each state's particular requirements. A copy of the current form in English and 20 additional translated languages is available on EAC's website, at https://www.eac.gov/voters/national-mail-voter-registration-form.

Affected Public (Respondents): U.S. citizens eligible to vote in jurisdictions that accept and use the National Mail Voter Registration form.

Number of Respondents: 2,500,000.

Responses per Respondent: 1.

Estimated Burden per Response: 0.12 hours per response.

Estimated Total Annual Burden Hours: 291,667 hours annualized.

Frequency: Annually.

Camden Kelliher,
General Counsel, U.S. Election Assistance Commission.

[FR Doc. 2025-03460 Filed 3-3-25; 8:45 am]

BILLING CODE 4810-71-P